DEPARTMENT OF ENERGY

Federal Energy Regulatory Commission

Combined Notice of Filings #1

Take notice that the Commission received the following electric corporate filings:

Docket Numbers: EC19-48-000.

Applicants: American Electric Power Service Corporation, AEP Ohio Transmission Company, Inc.

Description: Joint Application for Authorization Under Section 203 of the Federal Power Act of American Electric Power Service Corporation, on behalf of affiliate AEP Ohio Transmission Company, Inc.

Filed Date: 1/23/19.

Accession Number: 20190123-5081.

Comments Due: 5 p.m. ET 2/13/19.

Docket Numbers: EC19-49-000.

Applicants: Oklahoma Gas and Electric Company.

Description: Application for Authorization Under Section 203 of the Federal Power Act, et al. of Oklahoma Gas and Electric Company.

Filed Date: 1/23/19.

Accession Number: 20190123-5082.

Comments Due: 5 p.m. ET 2/13/19.

Take notice that the Commission received the following exempt wholesale generator filings:

Docket Numbers: EG19-50-000.

Applicants: Innolith Snook LLC.

Description: Notice of Self-Certification of Exempt Wholesale Generator Status of Innolith Snook LLC.

Filed Date: 1/23/19.

Accession Number: 20190123-5070.

Comments Due: 5 p.m. ET 2/13/19.

Take notice that the Commission received the following electric rate filings:

Docket Numbers: ER10-3307-000.

Applicants: NRG Energy Center Dover LLC.

Description: Report Filing: Refund Report to be effective N/A.

Filed Date: 1/23/19.

Accession Number: 20190123-5017.

Comments Due: 5 p.m. ET 2/13/19.

Docket Numbers: ER17-706-006.

Applicants: GridLiance West LLC.

Description: Compliance filing: GLW 206 Compliance Filing [EL18-158] to be effective 6/27/2018.

Filed Date: 1/22/19.

Accession Number: 20190122-5209.

Comments Due: 5 p.m. ET 2/12/19.

Docket Numbers: ER19-537-001; ER14-608-002; ER16-1644-002; ER17-1214-001.

Applicants: MRP San Joaquin Energy, LLC, High Desert Power Project, LLC, MRP Generation Holdings, LLC, Coso Geothermal Power Holdings, LLC.

Description: Supplement to December 13, 2018 Notice of Change in Status of MRP San Joaquin Energy, LLC, et. al.

Filed Date: 1/22/19.

Accession Number: 20190122-5301.

Comments Due: 5 p.m. ET 2/12/19.

Docket Numbers: ER19-840-000.

Applicants: PJM Interconnection, L.L.C.

Description: § 205(d) Rate Filing: Second Revised ISA, SA No. 2136; Queue No. AC1-038/AC2-172 to be effective 12/22/2018.

Filed Date: 1/22/19.

Accession Number: 20190122-5202.

Comments Due: 5 p.m. ET 2/12/19.

Docket Numbers: ER19-841-000.

Applicants: Energy Center Dover LLC.

Description: Baseline eTariff Filing: Baseline MBR Tariff Refiling, Request for Administrative Cancellation & Waivers to be effective 1/23/2019.

Filed Date: 1/22/19.

Accession Number: 20190122-5203.

Comments Due: 5 p.m. ET 2/12/19.

Docket Numbers: ER19-842-000.

Applicants: Energy Center Paxton LLC.

Description: Baseline eTariff Filing: Baseline MBR Tariff Refiling, Request for Administrative Cancellation & Waivers to be effective 1/23/2019.

Filed Date: 1/22/19.

Accession Number: 20190122-5204.

Comments Due: 5 p.m. ET 2/12/19.

Docket Numbers: ER19-843-000.

Applicants: Solar Blythe LLC.

Description: Baseline eTariff Filing: Baseline MBR Tariff Refiling, Request for Administrative Cancellation & Waivers to be effective 1/23/2019.

Filed Date: 1/22/19.

Accession Number: 20190122-5205.

Comments Due: 5 p.m. ET 2/12/19.

Docket Numbers: ER19-844-000.

Applicants: Solar Roadrunner LLC.

Description: Baseline eTariff Filing: Baseline MBR Tariff Refiling, Request for Administrative Cancellation & Waivers to be effective 1/23/2019.

Filed Date: 1/22/19.

Accession Number: 20190122-5206.

Comments Due: 5 p.m. ET 2/12/19.

Docket Numbers: ER19-853-000.

Applicants: Consolidated Edison Energy, Inc.

Description: Request for Additional Cost Recovery of Consolidated Edison Energy, Inc.

Filed Date: 1/18/19.

Accession Number: 20190118-5210.

Comments Due: 5 p.m. ET 2/8/19.

Docket Numbers: ER19-854-000.

Applicants: Innolith Snook LLC.

Description: Baseline eTariff Filing: Innolith Snook LLC MBR Tariff to be effective 1/24/2019.

Filed Date: 1/23/19.

Accession Number: 20190123-5061.

Comments Due: 5 p.m. ET 2/13/19.

Docket Numbers: ER19-856-000.

Applicants: Commonwealth Edison Company, PJM Interconnection, L.L.C.

Description: § 205(d) Rate Filing: ComEd submits revisions to Att. H-13 re: Sun-Mountain Hilltop WDC to be effective 1/24/2019.

Filed Date: 1/23/19.

Accession Number: 20190123-5077.

Comments Due: 5 p.m. ET 2/13/19.

Take notice that the Commission received the following electric securities filings:

Docket Numbers: ES19-9-000; ES19-10-000; ES19-11-000; ES19-12-000.

Applicants: Transource Maryland, LLC, Transource Missouri, LLC, Transource Pennsylvania, LLC, Transource West Virginia, LLC.

Description: Application under Section 204 of the Federal Power Act for Authorization to Issue Securities of Transource Maryland, LLC, et al.

Filed Date: 1/22/19.

Accession Number: 20190122-5302.

Comments Due: 5 p.m. ET 2/12/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 23, 2019.
Nathaniel J. Davis, Sr.,
Deputy Secretary.

[FR Doc. 2019-00523 Filed 1-30-19; 8:45 am]

BILLING CODE 6717-01-P